DEPARTMENT OF ENERGY

Federal Energy Regulatory Commission

Combined Notice of Filings # 1

Take notice that the Commission received the following electric rate filings:

Docket Numbers: ER12-1401-001.

Applicants: Southwest Power Pool, Inc.

Description: Motion to Withdraw Rate Schedule No. 11 in ER12-1401 to be effective 12/19/2013.

Filed Date: 1/31/14.

Accession Number: 20140131-5416.

Comments Due: 5 p.m. e.t. 2/21/14.

Docket Numbers: ER12-1779-001.

Applicants: Southwest Power Pool, Inc.

Description: Motion to Withdraw Rate Schedule No. 11 in ER12-1779 to be effective 12/19/2013.

Filed Date: 1/31/14.

Accession Number: 20140131-5438.

Comments Due: 5 p.m. e.t. 2/21/14.

Docket Numbers: ER13-1697-000.

Applicants: Kiwi Energy Inc.

Description: Refund Report to be effective N/A.

Filed Date: 1/31/14.

Accession Number: 20140131-5501.

Comments Due: 5 p.m. e.t. 2/21/14.

Docket Numbers: ER14-1212-001.

Applicants: Midcontinent Independent System Operator, Inc.

Description: 2014-01-31_Schedule 43C Illinois Power Edwards SSR Amendment to be effective 1/1/2014.

Filed Date: 1/31/14.

Accession Number: 20140131-5239.

Comments Due: 5 p.m. e.t. 2/21/14.

Docket Numbers: ER14-1225-001.

Applicants: Southwest Power Pool, Inc.

Description: Lea County Stated Rate Amendment Filing to be effective 4/1/2014.

Filed Date: 1/31/14.

Accession Number: 20140131-5486.

Comments Due: 5 p.m. e.t. 2/21/14.

Docket Numbers: ER14-1239-000.

Applicants: San Diego Gas & Electric Company.

Description: SDGE TO4 Formula Settlement Filing to be effective 9/1/2013.

Filed Date: 1/31/14.

Accession Number: 20140131-5487.

Comments Due: 5 p.m. e.t. 2/21/14.

Docket Numbers: ER14-1240-000.

Applicants: Southwest Power Pool, Inc.

Description: 1276R6 KCP&L NITSA NOA to be effective 1/1/2014.

Filed Date: 1/31/14.

Accession Number: 20140131-5490.

Comments Due: 5 p.m. e.t. 2/21/14.

Docket Numbers: ER14-1241-000.

Applicants: Southwest Power Pool, Inc.

Description: 2028R6 Sunflower Electric Power Corporation NITSA NOA to be effective 1/1/2014.

Filed Date: 1/31/14.

Accession Number: 20140131-5495.

Comments Due: 5 p.m. e.t. 2/21/14.

Docket Numbers: ER14-1242-000.

Applicants: Midcontinent Independent System Operator, Inc.

Description: 2014-01-31_SA 6506 Presque Isle SSR Agreement to be effective 2/1/2014.

Filed Date: 1/31/14.

Accession Number: 20140131-5503.

Comments Due: 5 p.m. e.t. 2/21/14.

Docket Numbers: ER14-1243-000.

Applicants: Midcontinent Independent System Operator, Inc.

Description: 2014-01-31_Schedule 43G Presque Isle SSR to be effective 2/1/2014.

Filed Date: 1/31/14.

Accession Number: 20140131-5506.

Comments Due: 5 p.m. e.t. 2/21/14.

Docket Numbers: ER14-1244-000.

Applicants: New England Power Pool Participants Committee.

Description: February 2014 Membership Filing to be effective 1/1/2014.

Filed Date: 1/31/14.

Accession Number: 20140131-5508.

Comments Due: 5 p.m. e.t. 2/21/14.

Docket Numbers: ER14-1245-000.

Applicants: FirstEnergy Solutions Corp.

Description: Application of FirstEnergy Solutions Corp. for authorization to sell electricity to The Potomac Edison Company, an affiliate.

Filed Date: 1/31/14.

Accession Number: 20140131-5537.

Comments Due: 5 p.m. e.t. 2/21/14.

Docket Numbers: ER14-1246-000.

Applicants: MATL LLP.

Description: Revise Schedule 7 for Auction to be effective 4/4/2014.

Filed Date: 2/3/14.

Accession Number: 20140203-5139.

Comments Due: 5 p.m. e.t. 2/24/14.

Docket Numbers: ER14-1247-000.

Applicants: Midcontinent Independent System Operator, Inc.

Description: 2014-02-03_SGIP Order 792 Compliance Filing to be effective N/A.

Filed Date: 2/3/14.

Accession Number: 20140203-5153.

Comments Due: 5 p.m. e.t. 2/24/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2014.
Nathaniel J. Davis, Sr.,
Deputy Secretary.

[FR Doc. 2014-02819 Filed 2-7-14; 8:45 am]

BILLING CODE 6717-01-P